ADVISORY COUNCIL ON HISTORIC PRESERVATION

Notice of ACHP Quarterly Business Meeting

Agency: Advisory Council on Historic Preservation.

ACTION: Notice.

SUMMARY: Notice is hereby given that the Advisory Council on Historic Preservation (ACHP) will meet Thursday, November 15, 2012. The meeting will be held in the Room SR325 at the Russell Senate Office Building at Constitution and Delaware Avenues NE., Washington, DC at 8:30 a.m.

The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order—8:30 a.m.

I. Chairman's Welcome

II. Chairman's Award

III. Chairman's Report

IV. ACHP Management Issues

A. ACHP FY 2013 and 2014 Budget

B. Alumni Foundation Report

C. Credentials Committee Review of Designee Credentials

D. Committee Reorganization

V. Follow up to August Forum Discussion—Building a More Inclusive Preservation Program

VI. Historic Preservation Policy and Programs

A. The Future of Historic Preservation Tax Credits

B. Rightsizing Task Force Report

C. Sustainability Task Force Report

D. ACHP Plan in Response to United Nations Declaration on the Rights of Indigenous Peoples

E. Social Media and the ACHP

F. Planning for 50th Anniversary of the National Historic Preservation Act

G. Planning for 10th Anniversary of the Preserve America Program

VII. Section 106 Issues

A. Guidance on Coordinating and Substituting NEPA and Section 106 Compliance

B. Department of Housing and Urban Development Tribal Notification Data Base

C. Energy and Historic Preservation Working Group

VIII. New Business

IX. Adjourn

Note: The meetings of the ACHP are open to the public. If you need special accommodations due to a disability, please contact the Advisory Council on Historic Preservation, 1100 Pennsylvania Avenue NW., Room 803, Washington, DC, 202-606-8503, at least seven (7) days prior to the meeting. For further information: Additional information concerning the meeting is available from the Executive Director, Advisory Council on Historic Preservation, 1100 Pennsylvania Avenue NW., #803, Washington, DC 20004.

Dated: October 24, 2012.
John M. Fowler,
Executive Director.

[FR Doc. 2012-26645 Filed 10-31-12; 8:45 am]

BILLING CODE 4310-K6-M